SMALL BUSINESS ADMINISTRATION

[Disaster Declaration #20981 and #20982; WEST VIRGINIA Disaster Number WV-20016]

Presidential Declaration of a Major Disaster for the State of West Virginia; Correction

AGENCY: U.S. Small Business Administration.

ACTION: Correction.

SUMMARY: This is a correction to the Presidential declaration of a major disaster for the State of West Virginia (FEMA-4861-DR), dated February 26, 2025.

Incident: Severe Storm, Straight-line Winds, Flooding, Landslides and Mudslides.

DATES: Issued on February 26, 2025.

Incident Period: February 15, 2025, and continuing.

Physical Loan Application Deadline Date: April 28, 2025.

Economic Injury (EIDL) Loan Application Deadline Date: November 26, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the state of West Virginia dated February 26, 2025, published at 90 FR 11867 in the second column, is hereby corrected to include the Interest Rates for Physical Damage for Homeowners with Credit Available Elsewhere as 5.500 and Homeowners without Credit Available Elsewhere as 2.750. Applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties (Physical Damage and Economic Injury Loans): McDowell, Mercer, Mingo, Wyoming.

Contiguous Counties (Economic Injury Loans Only):

Kentucky: Martin, Pike.

Virginia: Bland, Buchanan, Giles, Tazewell.

West Virginia: Boone, Lincoln, Logan, Monroe, Raleigh, Summers, Wayne.

The Interest Rates are:

| Percent
For Physical Damage:
Homeowners with Credit Available Elsewhere | 5.500
Homeowners without Credit Available Elsewhere | 2.750
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 209816 and for economic injury is 209820.

(Catalog of Federal Domestic Assistance Number 59008)

James Stallings,
Associate Administrator, Office of Disaster Recovery & Resilience.

[FR Doc. 2025-07145 Filed 4-24-25; 8:45 am]

BILLING CODE 8026-09-P